DEPARTMENT OF THE INTERIOR

National Park Service

[NPS-WASO-PCE-COR-NTS-NPS0033021; PPWOPCADT0, PPMPSPD1T.Y00000 (211); OMB Control Number 1024-0283]

Agency Information Collection Activities; Submission to the Office of Management and Budget for Review and Approval; Application for Designation as National Recreation Trail or National Water Trail

AGENCY: National Park Service, Interior.

ACTION: Notice of information collection; request for comment.

SUMMARY: In accordance with the Paperwork Reduction Act of 1995, we, the National Park Service (NPS) are proposing to renew an information collection.

DATES: Interested persons are invited to submit comments on or before March 14, 2022.

ADDRESSES: Send your comments on this information collection request (ICR) by mail to Phadrea Ponds, NPS Information Collection Clearance Officer, National Park Service, 12201 Sunrise Valley Dr., (MS-242) Reston, VA 20192; or by email to phadrea_ponds@nps.gov. Please reference Office of Management and Budget (OMB) Control Number 1024-0283 in the subject line of your comments.

FOR FURTHER INFORMATION CONTACT: To request additional information about this ICR, contact Peter Bonsall, National Trails System Program Specialist, National Recreation Trails Coordinator for the Department of the Interior 12795 W Alameda Parkway, Lakewood, CO 80228; by email at peter_bonsall@nps.gov, or by telephone at (303) 969-2620. Individuals who are hearing or speech impaired may call theFederalRelay Service at 1-800-877-8339 for TTY assistance.

SUPPLEMENTARY INFORMATION: In accordance with the Paperwork Reduction Act of 1995 (PRA, 44 U.S.C. 3501et seq.) and 5 CFR 1320.8(d)(1), all information collections require approval under the PRA. We may not conduct, or sponsor and you are not required to respond to a collection of information unless it displays a currently valid OMB control number.

As part of our continuing effort to reduce paperwork and respondent burdens, we invite the public and other Federal agencies to comment on new, proposed, revised, and continuing collections of information. This helps us assess the impact of our information collection requirements and minimize the public's reporting burden. It also helps the public understand our information collection requirements and provide the requested data in the desired format.

We are especially interested in public comment addressing the following:

(1) Whether or not the collection of information is necessary for the proper performance of the functions of the agency, including whether or not the information will have practical utility.

(2) The accuracy of our estimate of the burden for this collection of information, including the validity of the methodology and assumptions used.

(3) Ways to enhance the quality, utility, and clarity of the information to be collected.

(4) How might the agency minimize the burden of the collection of information on those who are to respond, including through the use of appropriate automated, electronic, mechanical, or other technological collection techniques or other forms of information technology, e.g., permitting electronic submission of response.

Comments that you submit in response to this notice are a matter of public record. We will include or summarize each comment in our request to OMB to approve this ICR. Before including your address, phone number, email address, or other personal identifying information in your comment, you should be aware that your entire comment—including your personal identifying information—may be made publicly available at any time. While you can ask us in your comment to withhold your personal identifying information from public review, we cannot guarantee that we will be able to do so.

Abstract: The NPS is authorized by section 4 of the National Trails System Act (16 U.S.C. 1243) and Secretarial Order No. 3319 to administer the National Recreation Trail (NRT) program, which establishes National Water Trails as a class of National Recreation Trails and directs that such trails collectively be considered in a National Water Trails System.

The NPS uses forms 10-1002: Application for Designation as National Water Trail and 10-1003: Application for Designation as National Recreation Trail to collect information NPS requires when submitting suitable trails or trail systems and water trails to the Secretary of the Interior for designation. The applications are evaluated for adherence to NRT requirements and criteria. NPS evaluation of an application is based on (1) the sufficiency of information provided on the application form and in supporting documentation, such as photographs, maps, and written landowner consents that accompany the form, and (2) successfully meeting the NRT requirements and criteria. Successful applications are forwarded to the Secretary of the Interior for approval.

Title of Collection: Application for Designation as National Recreation Trail or National Water Trail.

OMB Control Number: 1024-0283.

Form Number: NPS 10-1002: Application for Designation as National Water Trail and NPS 10-1003: Application for Designation as National Recreation Trail.

Type of Review: Extension of a currently approved collection.

Description of Respondents: Private individuals; businesses; educational institutions; nonprofit organizations; state, tribal, and local governments; and Federal agency land units.

Total Estimated Number of Annual Respondents: 22.

Total Estimated Number of Annual Responses: 23.

Estimated Completion Time per Response: Average 5 hours.

Total Estimated Number of Annual Burden Hours: 156 hours.

Respondent's Obligation: Required to obtain or retain a benefit.

Frequency of Collection: On occasion.

Total Estimated Annual Nonhour Burden Cost: None.

An agency may not conduct, or sponsor and a person is not required to respond to a collection of information unless it displays a currently valid OMB control number.

The authority for this action is the Paperwork Reduction Act of 1995 (44 U.S.C. 3501 et seq.).

Signed:
Phadrea Ponds,
Information Collection Clearance Officer, National Park Service.

[FR Doc. 2022-00416 Filed 1-11-22; 8:45 am]

BILLING CODE 4312-52-P